DEPARTMENT OF THE INTERIOR

Fish and Wildlife Service

50 CFR Part 17

[Docket No. FWS-R1-ES-2015-0031; FXES11130900000C6-156-FF09E42000]

RIN 1018-BA89

Endangered and Threatened Wildlife and Plants; Technical Corrections for 54 Wildlife and Plant Species on the List of Endangered and Threatened Wildlife and Plants

AGENCY: Fish and Wildlife Service, Interior.

ACTION: Direct final rule.

SUMMARY: We, the U.S. Fish and Wildlife Service (Service), announce the revised taxonomy of 4 wildlife species and 50 plant species under the Endangered Species Act of 1973, as amended (Act). We are revising the List of Endangered and Threatened Wildlife and the List of Endangered and Threatened Plants to reflect the current scientifically accepted taxonomy and nomenclature of these species.

DATES: This rule is effective September 21, 2015 without further action, unless significant adverse comment is received by July 23, 2015. If significant adverse comment is received regarding taxonomic changes for any of these species, we will publish in the Federal Register a timely withdrawal of the rule.

ADDRESSES: You may submit comments by one of the following methods:

• Electronically: Go to the Federal eRulemaking Portal: http://www.regulations.gov. Follow the instructions for submitting comments to FWS-R1-ES-2015-0031, which is the docket number for this rulemaking.

• By hard copy: Submit comments by U.S. mail or hand-delivery to: Public Comments Processing, Attn: FWS-R1-ES-2015-0031; Division of Policy, Performance, and Management Programs; U.S. Fish and Wildlife Service; 5275 Leesburg Pike MS: BPHC, Falls Church, VA 22041-3803.

See Public Comments in SUPPLEMENTARY INFORMATION for more information about submitting comments.

FOR FURTHER INFORMATION CONTACT: Marilet Zablan, Program Manager for Restoration and Endangered Species Classification, U.S. Fish and Wildlife Service, Pacific Regional Office, Ecological Services, 911 NE 11th Avenue, Portland, OR 97232; telephone 503-231-6131. Individuals who are hearing impaired or speech impaired may call the Federal Relay Service at 800-877-8337 for TTY (telephone typewriter or teletypewriter) assistance 24 hours a day, 7 days a week.

SUPPLEMENTARY INFORMATION:

Purpose of Direct Final Rule and Final Action

The purpose of this direct final rule is to notify the public that we are revising the List of Endangered and Threatened Wildlife in title 50 of the Code of Federal Regulations (50 CFR 17.11(h)) and the List of Endangered and Threatened Plants (50 CFR 17.12(h)) to reflect the scientifically accepted taxonomy and nomenclature of 4 wildlife species and 50 plant species listed under section 4 of the Act (16 U.S.C. 1531 et seq.). These changes to the List of Endangered and Threatened Wildlife and the List of Endangered and Threatened Plants reflect the most recently accepted scientific names in accordance with 50 CFR 17.11(b) and 50 CFR 17.12(b).

We are publishing this rule without a prior proposal because this is a noncontroversial action that is in the best interest of the public and should be undertaken in as timely a manner as possible. This rule will be effective, as published in this document, on the effective date specified in DATES, unless we receive significant adverse comments on or before the comment due date specified in DATES. Significant adverse comments are comments that provide strong justifications as to why this rule should not be adopted or why it should be changed.

If we receive significant adverse comments regarding the taxonomic changes for any of these species, we will publish a document in the Federal Register withdrawing this rule before the effective date, and we will publish a proposed rule to initiate promulgation of those changes to 50 CFR 17.11 or 50 CFR 17.12.

Public Comments

You may submit your comments and materials regarding this direct final rule by one of the methods listed in ADDRESSES. Please include sufficient information with your comments that allows us to verify any scientific or commercial information you include. We will not consider comments sent by email or fax, or to an address not listed in ADDRESSES.

We will post all comments on http://www.regulations.gov. Before including your address, phone number, email address, or other personal information in your comment, you should be aware that your entire comment—including your personal identifying information—may be made publicly available at any time. While you can ask us in your comment to withhold your personal identifying information from public review, we cannot guarantee that we will be able to do so.

Comments and materials we receive, as well as supporting documentation we use in preparing this direct final rule, will be available for public inspection on the Internet at http://www.regulations.gov or by appointment, during normal business hours at the U.S. Fish and Wildlife Service office listed in the ADDRESSES section. Please note that comments posted to http://www.regulations.gov are not immediately viewable. When you submit a comment, the system receives it immediately. However, the comment will not be publicly viewable until we post it, which might not occur until several days after submission. Information regarding this rule is available in alternative formats upon request (see FOR FURTHER INFORMATION CONTACT). For information pertaining to specific species, please contact our Ecological Services field offices as follows:

Species | Contact person, phone, Email | Contact address
Hawaiian plants | Kristi Young, Fish and Wildlife Biologist; 808-792-9400, kristi_young@fws.gov | Pacific Islands Fish and Wildlife Office, U.S. Fish and Wildlife Service, 300 Ala Moana Blvd., Room 3-122, Honolulu, HI 96813.
Guam and Hawaiian birds | Kristi Young, Fish and Wildlife Biologist; 808-792-9400, kristi_young@fws.gov | Pacific Islands Fish and Wildlife Office, U.S. Fish and Wildlife Service, 300 Ala Moana Blvd., Room 3-122, Honolulu, HI 96813.
Willamette daisy and large-flowered woolly meadowfoam | Jeff Dillon, Fish and Wildlife Biologist; 503-231-6179, jeff_dillon@fws.gov | Oregon Fish and Wildlife Office, U.S. Fish and Wildlife Service, 2600 SE 98th Avenue, Portland, OR 97266.
Northern Idaho ground squirrel | Kim Garner, Fish and Wildlife Biologist; 208-378-5243, FW1NIDGSTaxonomy@fws.gov | Idaho Fish and Wildlife Office, U.S. Fish and Wildlife Service, 1387 S. Vinnell Way, Room 368, Boise, ID 83709.

Background

Sections 17.11(b) and 17.12(b) of title 50 of the Code of Federal Regulations (CFR) requires us to use the most recently accepted scientific name of any wildlife or plant species that we have determined to be an endangered or threatened species. Using the best available scientific information, this direct final rule documents taxonomic changes of the scientific names to 4 entries on the List of Endangered and Threatened Wildlife (50 CFR 17.11(h)) and 31 entries on the List of Endangered and Threatened Plants (50 CFR 17.12(h)). The basis for these taxonomic changes is supported by published studies in peer-reviewed journals. Accordingly, we revise the scientific names of these species under section 4 of the Act (16 U.S.C. 1531 et seq.) as follows: northern Idaho ground squirrel (Urocitellus brunneus); Hawaiian common gallinule (Gallinula galeata sandvicensis); Guam kingfisher (Todiramphus cinnamominus); Hawaiian petrel (Pterodroma sandwichensis); Cyanea crispa (haha); Cyanea rivularis (haha); Cyperus fauriei (no common name); Erigeron decumbens (Willamette daisy); Euphorbia celastroides var. kaenana (`akoko); Euphorbia deppeana (`akoko); Euphorbia eleanoriae (`akoko); Euphorbia halemanui (`akoko); Euphorbia herbstii (`akoko); Euphorbia kuwaleana (`akoko); Euphorbia remyi var. kauaiensis (`akoko); Euphorbia remyi var. remyi (`akoko); Euphorbia rockii (`akoko); Euphorbia skottsbergii var. skottsbergii (`Ewa Plains `akoko); Kadua cookiana (`awiwi); Kadua st-johnii (no common name); Limnanthes pumila ssp. grandiflora (large-flowered woolly meadowfoam); Lobelia koolauensis (no common name); Polyscias bisattenuata (no common name); Polyscias flynnii (no common name); Polyscias gymnocarpa (`ohe`ohe); Polyscias lydgatei (no common name); Polyscias racemosa (no common name); Pritchardia maideniana (lo`ulu); Schiedea lychnoides (kuawawaenohu); Schiedea viscosa (no common name); Sicyos albus (`anunu); Asplenium dielfalcatum (no common name); Asplenium dielmannii (no common name); Asplenium dielpallidum (no common name); and Asplenium unisorum (no common name). We make these changes to the List of Endangered and Threatened Wildlife and the List of Endangered and Threatened Plants to reflect the most recently accepted scientific names in accordance with 50 CFR 17.11(b) and 50 CFR 17.12(b).

Additionally, common names of 3 additional species (Cyanea platyphylla (`aku`aku), Dubautia latifolia (koholapehu), and Geranium arboreum (nohoanu)) are revised to reflect currently accepted usage. And family assignments of 16 species (Flueggea neowawraea (mehamehame), Korthalsella degeneri (hulumoa), Lysimachia daphnoides (lehua makanoe), L. iniki (no common name), L. pendens (no common name), L. scopulensis (no common name), L. venosa (no common name), Myrsine juddii (kolea), M. knudsenii (kolea), M. linearifolia (kolea), M. mezii (kolea), M. vaccinioides (kolea), Pleomele hawaiiensis (hala pepe), Xylosma crenatum (no common name), Adenophorus periens (pendent kihi fern), and Diplazium molokaiense (no common name)) are also revised.

Taxonomic Classification

Northern Idaho ground squirrel

The northern Idaho ground squirrel was originally listed as threatened on April 5, 2000, under the scientific name Spermophilus brunneus brunneus (65 FR 17779). At that time this taxon and the southern Idaho ground squirrel (S. b. endemicus) were both considered to be subspecies of the Idaho ground squirrel, Spermophilus brunneus (Thorington and Hoffmann 2005, p. 805). Helgen et al. (2009, pp. 270-305) split the genus Spermophilus into eight genera: Urocitellus (including the Idaho ground squirrel), Notocitellus, Otospermophilus, Callospermophilus, Spermophilus, Ictidomys, Poliocitellus, and Xerospermophilus, based on skull morphology, pelage characteristics, and mitochondrial DNA analyses (Herron et al. 2004, pp. 1015-1030). The northern Idaho ground squirrel and the southern Idaho ground squirrel differ in pelage, life-history timing, and skull and bacular morphology (Yensen and Sherman 1997, pp. 1-3), and analysis of microsatellite and mitochondrial DNA shows no evidence of recent genetic exchange between the two taxa (Hoisington-Lopez et al. 2012, pp. 589-604). Consequently, Hoisington-Lopez et al. (2012, pp. 595-599) elevated both taxa to species rank, as Urocitellus brunneus and U. endemicus. This taxonomic change does not affect the range or threatened status of the northern Idaho ground squirrel. The Service has used the updated scientific name U. endemicus for the southern Idaho ground squirrel (currently a candidate for listing under the Endangered Species Act) since publication of the candidate notice of review on November 22, 2013 (78 FR 70104).

Hawaiian common gallinule

This subspecies was originally listed as endangered on March 11, 1967, under the name of Hawaiian common gallinule (Gallinula chloropus sandvicensis) (32 FR 4001). At that time, the range of Gallinula chloropus was considered to include both the Old World and New World, with the common name of “common gallinule” in American usage (American Ornithologists' Union [AOU] 1957, pp. 160-161) and “moorhen” or “common moorhen” in British usage (e.g., Dudley et al. 2006, p. 537). Subsequently the AOU (1982, p. 5CC) changed the common name of the species to “common moorhen” for consistency with international usage. The current List of Endangered and Threatened Wildlife is consistent with this approach, listing the species as “Hawaiian common moorhen”. However, more recent research indicates that the New World and Old World populations are separate species, based on differences in vocalizations and morphology of the bill and frontal shield (Constantine and the Sound Approach 2006, pp. 138-139) and mitochondrial DNA (Groenenberg et al. 2008, pp. 1-8). Based on this research, AOU accepts the two populations as distinct species (Chesser et al. 2011, p. 603), splitting them into the common gallinule (Gallinula galeata) of North and South America and the common moorhen (Gallinula chloropus) of Eurasia. Chesser et al. (2011, p. 603) includes the Hawaiian Islands within the range of the common gallinule. Data from Hawaiian birds were not analyzed by Constantine and the Sound Approach (2006, pp. 138-139) or Groenenberg et al. (2008, pp. 1-8); however, specimens from the Hawaiian Islands are similar to New World birds in frontal shield morphology, and a mitochondrial DNA sequence from a Hawaiian specimen is identical to those of New World specimens (T. Chesser in litt. 2012). Consequently, the Hawaiian subspecies is now classified as Gallinula galeata sandvicensis, and returns to its original common name of “Hawaiian common gallinule”. The taxonomic change does not affect the range or endangered status of the Hawaiian common gallinule.

The taxonomic position of the Mariana common moorhen, listed as endangered on August 27, 1984 (49 FR 33881) under the scientific name of Gallinula chloropus guami, has not been studied in detail; however, its frontal shield morphology appears more similar to Old World specimens (T. Chesser in litt. 2012). Consequently, the best available information indicates that its common and scientific names are still appropriate.

Guam kingfisher

This bird was originally listed as endangered within its range on Guam on August 27, 1984, under the name of Micronesian kingfisher (Halcyon cinnamomina cinnamomina) (49 FR 33881). The Service's critical habitat designation (69 FR 62944; October 28, 2004) revised the common name of this taxon in the List of Endangered and Threatened Wildlife to “Guam Micronesian kingfisher”, given that two other subspecies of Micronesian kingfisher occur outside Guam.

At the time this taxon was listed, the genus Halcyon encompassed several dozen kingfisher species ranging from Africa to Australasia and the Pacific islands (Forshaw 1983; Fry et al. 1992, as cited in Moyle 2006, p. 496; Howard and Moore 1991, pp. 168-169). The Australasian and Pacific species within this group are distinctive based on plumage pattern, myology, osteology, feather proteins, and DNA hybridization data (Sibley and Monroe 1990, pp. 89-90; Woodall 2001; Christidis and Boles 2008, p. 169). Analysis of nuclear and mitochondrial DNA (Moyle 2006, pp. 487-499) further indicates that the group of species originally classified under the genus Halcyon is not monophyletic (a monophyletic group consists of an ancestral species and all its descendants, typically being characterized by shared derived characteristics). Consequently most recent authorities (e.g., Woodall 2001, p. 134; Dickinson 2003) have restricted Halcyon to the African species; other species in the group have been classified under the genera Todiramphus (including the Micronesian kingfisher), Pelargopsis, and Syma. When the Micronesian kingfisher was classified within Todiramphus, its specific epithet was changed to cinnamominus for consistency with the gender of the new genus name. Del Hoyo et al. (2014, p. 606) reviewed the three subspecies of Micronesian kingfisher (T. cinnamominus on Guam, T. pelewensis on Palau, and T. reichenbachi on Pohnpei) under the species delimitation criteria of Tobias et al. (2010, pp. 1-23), and concluded that they were distinct at the species level based on differences in plumage pattern, wing and tail proportions, body size, and voice. Consequently, the listed population on Guam is now classified as a full species, Guam kingfisher (Todiramphus cinnamominus). The taxonomic change does not affect the range or endangered status of the taxon.

Hawaiian petrel

This bird was originally listed as endangered on March 11, 1967, under the name of Hawaiian dark-rumped petrel (Pterodroma phaeopygia sandwichensis) (32 FR 4001). At that time, the dark-rumped petrel (Pterodroma phaeopygia) was considered to include two subspecies: P. sandwichensis, which breeds on the Hawaiian Islands; and P. phaeopygia, which breeds on the Galapagos Islands and is not known to occur in the United States (AOU 1983, p. 16). More recently, study of the morphology and vocalizations of these two taxa (Tomkins and Milne 1991, pp. 1-35; Browne et al. 1997, pp. 812-815) indicates that they are distinct at a level comparable to other species in the genus. Consequently, the AOU has split them into two species, the Hawaiian petrel (Pterodroma sandwichensis) and the Galapagos petrel (Pterodroma phaeopygia) (Banks et al. 2002, p. 898). On January 5, 2010, the Galapagos petrel was also listed (as threatened), under the now accepted scientific name of Pterodroma phaeopygia (75 FR 235). The taxonomic change does not affect the range or endangered status of the Hawaiian petrel, nor does it affect the range or threatened status of the Galapagos petrel.

Erigeron decumbens (Willamette daisy)

The Willamette daisy was listed as endangered on January 25, 2000, under the scientific name Erigeron decumbens var. decumbens (65 FR 3875). At that time E. decumbens was considered to include two varieties, decumbens and robustior. Nesom (2004, pp. 19-39) elevated var. robustior to full species status, finding that the taxon was distinctive in morphology (involucre size, shape of phyllaries, length of corollas and cypselae) and soil habitat preference at a level similar to that of other species of Erigeron. Since var. decumbens was thus the only remaining variety within the species, rendering designation of a nominate variety superfluous, the taxon was renamed as the full species E. decumbens. This treatment has been adopted by the Flora of North America (Nesom 2006, pp. 274-279) and the Oregon Flora Project (Cook et al. 2014a, p. 64). Consequently, the current scientific name of the Willamette daisy is Erigeron decumbens. This taxonomic change does not affect the range or endangered status of the Willamette daisy.

Limnanthes pumila ssp. grandiflora (large-flowered woolly meadowfoam)

The large-flowered woolly meadowfoam was listed as endangered on November 7, 2002, under the scientific name Limnanthes floccosa ssp. grandiflora (67 FR 68004). At that time the species L. floccosa was considered to include five subspecies: L. f. ssp. bellingeriana, L. f. ssp. californica, L. f. ssp. floccosa, L. f. ssp. grandiflora, and L. f. ssp. pumila (Arroyo 1973, pp. 177-191; Ornduff 1993, pp. 736-738; Morin 2010, pp. 174-183). Meyers (2010) analyzed chloroplast, mitochondrial, and nuclear DNA of these subspecies and found they represented two clades: ssp. grandiflora and ssp. pumila in one, and ssp. bellingeriana, ssp. californica, and ssp. floccosa in the other; moreover, ssp. grandiflora and ssp. floccosa showed pre- and post-zygotic reproductive isolation from one another when crossed by hand. Consequently, Meyers (2010, pp. 1-121) and Chambers and Meyers (2011, pp. 621-622) reclassified ssp. grandiflora and ssp. pumila within a separate species L. pumila. This treatment has been adopted by the Oregon Flora Project (Cook et al. 2014b, pp. 1-2). Consequently, the current scientific name of the large-flowered woolly meadowfoam is Limnanthes pumila ssp. grandiflora. This taxonomic change does not affect the range or endangered status of the large-flowered woolly meadowfoam.

Schiedea species

The Hawaiian plants Alsinidendron lychnoides (kuawawaenohu) and A. viscosum (no common name) were listed as endangered on October 10, 1996 (61 FR 53070). At that time Alsinidendron was considered to be a genus of four species distinct from Schiedea (Wagner et al. 1999, pp. 499-502). However, analysis of nuclear DNA sequence data and morphology by Wagner et al. (2005, pp. 1-169) showed that the Alsinidendron clade is nested within Schiedea, as a sister group to Schiedea verticillata; thus the species in Alsinidendron were reassigned to Schiedea. The specific epithet viscosum was changed to viscosa to conform to the gender of the new generic name. These changes have been accepted in the most recent update to the Manual of the Flowering Plants of Hawaii (Wagner et al. 2012, p. 26). Consequently, the current scientific names of these species are Schiedea lychnoides and Schiedea viscosa. This taxonomic change does not affect the range or endangered status of either of these species.

The scientific names of Alsinidendron trinerve and A. obovatum (listed as endangered on October 29, 1991 (56 FR 55770)), were revised on the List of Endangered and Threatened Plants to their updated names of Schiedea trinervis and S. obovata when critical habitat was designated on September 18, 2012 (77 FR 57648); thus no further changes in nomenclature are needed for these two species.

Euphorbia species (`akoko)

The `Ewa Plains `akoko, a plant endemic to southwestern Oahu, was originally listed under the scientific name Euphorbia skottsbergii var. kalaeloana on August 24, 1982 (47 FR 36846), based on the taxonomy of Sherff (1938, pp. 1-94). Degener and Degener (1959, page unnumbered) moved this species to the genus Chamaesyce, as C. skottsbergii var. kalaeloana. Koutnik (1987, pp. 356-360; 1999, pp. 614-615) synonymized var. kalaeloana with var. skottsbergii, treating var. skottsbergii with a range including southwestern Oahu and northwestern Molokai. Morden and Gregoritza (2005, pp. 969-979) found that the Oahu and Molokai populations of var. skottsbergii differed genetically, and recommended treating them as separate varieties: var. audens on Molokai, and var. skottsbergii on Oahu (including the same range as the originally listed entity). Consequently, the Service revised the List of Endangered and Threatened Plants to refer to the `Ewa Plains `akoko as Chamaesyce skottsbergii var. skottsbergii when critical habitat was designated on September 18, 2012 (77 FR 57648); however, current research supports classifying this plant in the genus Euphorbia as discussed below.

Several other endangered Hawaiian plants are classified in the genus Chamaesyce as recognized by Degener and Degener (1959). Chamaesyce celastroides var. kaenana and C. kuwaleana were listed as endangered on October 29, 1991 (56 FR 55770); C. halemanui was listed as endangered on May 13, 1992 (57 FR 20580); C. deppeana was listed as endangered on March 28, 1994 (59 FR 14482); C. herbstii and C. rockii were listed as endangered on October 10, 1996 (61 FR 53089); C. eleanoriae, C. remyi var. kauaiensis, and C. remyi var. remyi were listed as endangered on April 13, 2010 (75 FR 18960). No common name was given for Chamaesyce halemanui when it was listed; the other species above were listed with the common name of `akoko.

Phylogenetic analysis of nuclear and chloroplast DNA sequence data for species in the tribe Euphorbieae (Steinmann and Porter 2002, pp. 453-490; Yang and Berry 2011, pp. 1486-1503) indicate that the genus Euphorbia was paraphyletic (i.e., consisting of all the descendants of the last common ancestor of the group's members except for a small number of monophyletic groups of descendants), with Chamaesyce and several other genera nested within it. Steinman and Porter (2002, pp. 479-480) recommended expanding Euphorbia to include Chamaesyce and the other genera in the subtribe Euphorbiinae. This approach has been accepted in the most recent update to the Manual of the Flowering Plants of Hawaii (Wagner et al. 2012, pp. 31-34). Consequently, the current scientific names of the listed Chamaesyce species are now Euphorbia celastroides var. kaenana, E. deppeana, E. eleanoriae, E. halemanui, E. herbstii, E. kuwaleana, E. remyi var. kauaiensis, E. remyi var. remyi, E. rockii, and E. skottsbergii var. skottsbergii. Although no common name was designated for E. halemanui when it was listed, the common name of `akoko is also appropriate for this species (Wagner et al. 1999, p. 607). These taxonomic changes do not affect the range or endangered status of any of these species.

Euphorbia haeleeleana (`akoko), which was listed as endangered on October 10, 1996 (61 FR 53108), is not a member of the Chamaesyce group (Wagner et al. 1999, p. 619), and its taxonomy has not changed.

Cyanea species (haha)

The Hawaiian plant Rollandia crispa (haha) was listed as endangered on March 28, 1994 (59 FR 14482). Phylogenetic analyses of chloroplast DNA indicated that the species classified in Rollandia were nested within the paraphyletic genus Cyanea (Lammers et al. 1993, pp. 437-441), and the species in Rollandia were, therefore, merged into Cyanea; however, Wagner et al. (1999, pp. 480-481) continued to recognize Rollandia as a genus, including Rollandia crispa. When the Service designated critical habitat for the species on June 17, 2003 (68 FR 35950), the scientific name in the List of Endangered and Threatened Plants was revised to read “Cyanea (=Rollandia) crispa”. The merger of Rollandia into Cyanea has since been accepted in the most recent update to the Manual of the Flowering Plants of Hawaii (Wagner et al. 2012, p. 24); because Rollandia is no longer a recognized genus, the parenthetical reference to it as an alternative name is unnecessary. Consequently the current scientific name of the species, as it should read in the List of Endangered and Threatened Plants, is Cyanea crispa. The current listing of “Cyanea (=Rollandia) crispa” indicates that no common name exists; this is erroneous as the common name is haha. Therefore, we are correcting this error in this rule. These changes do not affect the range or endangered status of the species.

Cyanea platyphylla was listed as endangered on October 10, 1996 (61 FR 53137), with the common name of haha. Although this common name is generally used for species in the genus Cyanea, Wagner et al. (1999, p. 459) specifically identified `aku`aku as the appropriate common name for Cyanea platyphylla. This change in common name does not affect the range or endangered status of the species.

Delissea rivularis (oha) was listed as endangered on October 10, 1996 (61 FR 53070). However, Lammers (2005, p. 13) found that the morphology of its leaves, flowers, and seeds is more similar to Cyanea and that molecular data indicate it is more closely related to Cyanea coriacea than to species in Delissea and, therefore, recommended transferring the species to Cyanea. This change has been accepted in the most recent update to the Manual of the Flowering Plants of Hawaii (Wagner et al. 2012, p. 23). Consequently, the current scientific name of this species is Cyanea rivularis. The common name is also changed to haha to correspond with the generally used common name for other species in Cyanea (Wagner et al. 1999, p. 437). This taxonomic change does not affect the range or endangered status of the species.

On June 11, 2012, a proposed critical habitat rule for multiple Hawaiian species (77 FR 34464) also included proposed scientific name changes for two additional Cyanea species: Cyanea dunbarii (changed to C. dunbariae) and C. macrostegia ssp. gibsonii (changed to C. gibsonii). We expect these changes to be finalized when the final critical habitat rule is published.

Dubautia latifolia (koholapehu)

The Hawaiian plant Dubautia latifolia was listed as endangered on May 13, 1992 (57 FR 20580), with the common name of na`ena`e. Although this common name is generally used for species in the genus Dubautia, Wagner et al. (1999, p. 299) specifically identified koholapehu as the appropriate common name for D. latifolia. This change in common name does not affect the range or endangered status of the species.

Geranium arboreum (nohoanu)

The Hawaiian plant Geranium arboreum was listed as endangered on May 13, 1992 (57 FR 20589), with the common name of Hawaiian red-flowered geranium. This common name was not historically used prior to listing of the species; however, Wagner et al. (1999, p. 729) identified nohoanu or hinahina as accepted common names for native Hawaiian species of Geranium, including G. arboreum. Use of the common name nohoanu is consistent with Service practice for other listed species of Hawaiian Geranium. This change in common name does not affect the range or endangered status of the species.

Kadua species

The Hawaiian plant Hedyotis cookiana (`awiwi) was listed as endangered on February 25, 1994 (59 FR 9304). Hedyotis st.-johnii (Na Pali Beach hedyotis) was listed as endangered on September 30, 1991 (56 FR 49639). Terrell et al. (2005, pp. 818-833) reviewed seed and fruit morphology and floral characteristics of Hawaiian and South Pacific Hedyotis species and found that they were distinct from the Asian and North American species, reassigning them to the genus Kadua. This change has been accepted in the most recent update to the Manual of the Flowering Plants of Hawaii (Wagner et al. 2012, pp. 63-65). Consequently, the current scientific names of these species are Kadua cookiana and Kadua st.-johnii. The common name given for K. st.-johnii in the List of Endangered and Threatened Plants, Na Pali Beach hedyotis, was not historically used prior to listing of the species. Because Wagner et al. (1999, p. 1150) did not identify an independently accepted common name for this species, we are revising the List of Endangered and Threatened Plants to indicate that no common name exists. These taxonomic changes do not affect the range or endangered status of either of these species.

On June 11, 2012, a proposed critical habitat rule for multiple Hawaiian species (77 FR 34464) also included proposed scientific name changes for two additional Hedyotis species: Hedyotis schechtendahliana var. remyi (changed to Kadua cordata ssp. remyi) and Hedyotis mannii (changed to Kadua laxiflora). We expect these changes to be finalized when the final critical habitat rule is published.

Lobelia koolauensis

The Hawaiian plant Lobelia gaudichaudii ssp. koolauensis (no common name) was listed as endangered on October 10, 1996 (61 FR 53089). While Wagner et al. (1999, p. 476) recognized two subspecies of L. gaudichaudii (ssp. koolauensis and ssp. gaudichaudii), differing in corolla color and branching of inflorescences, Lammers (2007, p. 797) determined that they do not interbreed where sympatric and elevated both taxa to full species status. This change has been accepted in the most recent update to the Manual of the Flowering Plants of Hawaii (Wagner et al. 2012, p. 24). Consequently, the current scientific name of this species is Lobelia koolauensis. This taxonomic change does not affect the range or endangered status of the species.

Cyperus fauriei

The Hawaiian sedge species Mariscus fauriei (no common name) was listed as endangered on March 4, 1994 (59 FR 10305). Historically, the genus Mariscus has also been recognized as a subgenus of Cyperus, but taxonomists have noted that no consistent characters (e.g., leaf anatomy, spikelet structure, photosynthetic metabolism type) separate the Mariscus group from other species in Cyperus, and recommend merging it within Cyperus subg. Cyperus (Lye 1981, p. 57; Tucker 1994, p. 10; Strong and Wagner 1997, p. 39). This change has been accepted in the most recent update to the Manual of the Flowering Plants of Hawaii (Wagner et al. 2012, p. 81). Consequently, the current scientific name of this species is Cyperus fauriei. This taxonomic change does not affect the range or endangered status of the species.

Polyscias species

The Hawaiian plant Munroidendron racemosum (no common name) was listed as endangered on February 25, 1994 (59 FR 9304). Tetraplasandra gymnocarpa (`ohe`ohe) was listed as endangered on March 28, 1994 (59 FR 14482). Tetraplasandra bisattenuata (no common name) and T. flynnii (no common name) were listed as endangered on April 13, 2010 (75 FR 18960). Tetraplasandra lydgatei (no common name) was listed as endangered on September 18, 2012 (77 FR 57648).

Lowry and Plunkett (2010, pp. 55-84) determined, based on molecular phylogenetic studies (phylogenetics is the study of evolutionary relationships among groups of organisms that are discovered through molecular sequencing data and morphological data matrices) (Plunkett et al. 2001, pp. 213-230; 2004, pp. 861-873), that the genus Polyscias, as previously circumscribed, is paraphyletic, with six traditionally recognized genera (Arthrophyllum, Cuphocarpus, Gastonia, Munroidendron, Reynoldsia, and Tetraplasandra) nested within it. They recommended combining all of these genera into Polyscias. Species in the genera Munroidendron and Tetraplasandra were thus assigned to the genus Polyscias, subgenus Tetraplasandra. The specific epithet racemosum was changed to racemosa to conform with the gender of the new genus name. These changes have been accepted in the most recent update to the Manual of the Flowering Plants of Hawai`i (Wagner et al. 2012, pp. 7-8). Consequently, the current scientific names of these species are P. racemosa, P. gymnocarpa, P. bisattenuata, P. flynnii, and P. lydgatei. These taxonomic changes do not affect the range or endangered status of any of these species.

Pritchardia maideniana (lo`ulu)

The Hawaiian palm tree Pritchardia affinis (lo`ulu) was listed as endangered on March 4, 1994 (59 FR 10305). This listing followed the taxonomy of Beccari and Rock (1921, pp. 37-41), who described P. affinis, including three additional varieties (var. gracilis, var. halophila, and var. rhopalocarpa) from localities on the island of Hawai`i. Previously, Beccari (1913, pp. 213-216) had described P. maideniana from cultivated plants in the Royal Botanic Gardens, Sydney, Australia, although the geographic origin of those individuals was unclear and no wild specimens had been located (Beccari and Rock 1921, p. 23). Hodel (2007, pp. S26-S27) examined an extant cultivated plant at the Royal Botanic Gardens, plants in Hawaii grown from its seeds, living plants within the native range of P. affinis on the island of Hawai`i, and photographs of type specimens attributed to both species, and found no differences between P. affinis and P. maideniana. Because P. affinis was the more recently described, Hodel reassigned the species (including all varieties) to P. maideniana. This change has been accepted in the most recent update to the Manual of the Flowering Plants of Hawai`i (Wagner et al. 2012, p. 76). Consequently, the current scientific name of this species is P. maideniana. This taxonomic change does not affect the range in the wild or the endangered status of the species.

Sicyos albus (`anunu)

The Hawaiian plant Sicyos alba (`anunu) was listed as endangered on October 10, 1996 (61 FR 53137). The most recent update to the Manual of the Flowering Plants of Hawai`i (Wagner et al. 2012, p. 30) corrected the specific epithet to albus, making it consistent with the gender of the genus name. Consequently, the current scientific name of the species is Sicyos albus. This correction does not affect the range or endangered status of the species.

Asplenium species

The Hawaiian fern Diellia falcata was listed as endangered on October 29, 1991 (56 FR 55770). Diellia pallida was listed as endangered on February 25, 1994 (59 FR 9304). Diellia unisora was listed as endangered on June 27, 1994 (59 FR 32932). Diellia mannii was listed as endangered on April 13, 2010 (75 FR 18960).

Kramer and Viane (1990, p. 55) and Viane and Reichstein (1991, p. 157) classified all species within the family Aspleniaceae, including the above species of Diellia, under the genus Asplenium. Analysis of molecular data by Schneider et al. (2005, pp. 455-460) indicated that Asplenium is paraphyletic and Diellia is a Hawaiian endemic clade nested within it. Therefore, Snow et al. (2011, p. 12) merged Diellia with Asplenium. Because different species had previously been described under the names A. falcatum, A. mannii, and A. pallidum, these names were not available to designate the respective Hawaiian species after the generic change (Viane and Reichstein 1991; Snow et al. 2011, p. 12). Consequently, D. falcata has been renamed A. dielfalcatum; D. mannii has been renamed A. dielmannii; and D. pallida has been renamed A. dielpallidum (Viane and Reichstein 1991, pp. 159-160; Snow et al. 2011, p. 12). Diellia unisora was also renamed A. unisorum, with the specific epithet changing to conform to the gender of the new genus name (Viane and Reichstein 1991, p. 163; Snow et al. 2011, p. 12). These changes have been accepted in the most recent update to Hawaii's Ferns and Fern Allies (Wagner et al. 2012, pp. 103-104). These taxonomic changes do not affect the range or endangered status of any of these species.

On June 11, 2012, a proposed critical habitat rule for multiple Hawaiian species (77 FR 34464) also included proposed scientific name changes for two additional fern species: Asplenium fragile var. insulare (changed to A. peruvianum var. insulare) and Diellia erecta (changed to A. dielerectum). We expect these changes to be finalized when the final critical habitat rule is published.

Family reassignments

Several genera of Hawaiian plants have been recently reassigned to different families (Wagner et al. 2012, pp. 108-109), based on phylogenetic research summarized by Smith et al. (2006, pp. 705-731), Mabberley (2008, pp. 14, 278, 341, 457, 508, 568, 916), the Angiosperm Phylogeny Group (2009, pp. 105-121), and Stevens (2015). These changes have resulted in a need for revisions in the List of Endangered and Threatened Plants where the family reassignments were not reflected in the original listing rules. Flueggea neowawraea (mehamehame) is listed as a member of the family Euphorbiaceae; this should be revised to Phyllanthaceae. Korthalsella degeneri (hulumoa) is listed as a member of the family Viscaceae; this should be revised to Santalaceae. Lysimachia daphnoides (lehua makanoe), L. iniki (no common name), L. pendens (no common name), L. scopulensis (no common name), L. venosa (no common name), Myrsine juddii (kolea), M. knudsenii (kolea), M. linearifolia (kolea), M. mezii (kolea), and M. vaccinioides (kolea) are listed as members of the family Myrsinaceae; this should be revised to Primulaceae. Pleomele hawaiiensis (hala pepe) is listed as a member of the family Liliaceae; this should be revised to Asparagaceae. Xylosma crenatum (no common name) is listed as a member of the family Flacourtiaceae; this should be revised to Salicaceae. Adenophorus periens (pendent kihi fern) is listed as a member of the family Grammitidaceae; this should be revised to Polypodiaceae. Diplazium molokaiense (no common name) is listed as a member of the family Aspleniaceae; this should be revised to Woodsiaceae. These taxonomic changes do not affect the threatened or endangered status or range of any of these species.

Required Determinations

Paperwork Reduction Act of 1995 (44 U.S.C. 3501 et seq.)

This rule does not contain any new collections of information that require approval by the Office of Management and Budget (OMB) under the Paperwork Reduction Act. This rule will not impose recordkeeping or reporting requirements on State or local governments, individuals, businesses, or organizations. An agency may not conduct or sponsor, and a person is not required to respond to, a collection of information unless it displays a currently valid OMB control number.

National Environmental Policy Act

We have determined that environmental assessments and environmental impact statements, as defined under the authority of the National Environmental Policy Act of 1969 (42 U.S.C. 4321 et seq.), need not be prepared in connection with regulations issued pursuant to section 4(a) of the Act. We published a notice outlining our reasons for this determination in the Federal Register on October 25, 1983 (43 FR 49244).

Clarity of the Rule

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To help us to revise this rule, your comments should be as specific as possible.

References Cited

A complete list of the referenced materials is available upon request from the U.S. Fish and Wildlife Service (see FOR FURTHER INFORMATION CONTACT).

List of Subjects in 50 CFR Part 17

Endangered and threatened species, Exports, Imports, Reporting and recordkeeping requirements, Transportation.

Regulation Promulgation

For the reasons given in the preamble, we amend part 17, subchapter B of chapter I, title 50 of the Code of Federal Regulations, as set forth below:

PART 17—[AMENDED]

1. The authority citation for part 17 continues to read as follows:

Authority: 16. U.S.C. 1361-1407; 1531-1544; 4201-4245; unless otherwise noted.

2. Amend the List of Endangered and Threatened Wildlife in § 17.11(h) by:

a. Revising the entry under MAMMALS for “Squirrel, northern Idaho ground” to read as set forth below;

b. Removing the entries under BIRDS for “Kingfisher, Guam Micronesian”, “Moorhen, Hawaiian common”, and “Petrel, Hawaiian dark-rumped”; and

c. Adding in alphabetic order under BIRDS entries for “Gallinule, Hawaiian common”, “Kingfisher, Guam”, and “Petrel, Hawaiian” to read as follows:

§ 17.11 Endangered and threatened wildlife.

* * * * *

(h) * * *

Species: Common name | Species: Scientific name | Historic range | Vertebrate population where endangered or threatened | Status | When listed | Critical habitat | Special rules
Mammals
* * * * * * *
Squirrel, northern Idaho ground | Urocitellus brunneus | U.S.A. (ID) | Entire | T | 693 | NA | NA
* * * * * * *
Birds
* * * * * * *
Gallinule, Hawaiian common | Gallinula galeata sandvicensis | U.S.A. (HI) | Entire | E | 1 | NA | NA
* * * * * * *
Kingfisher, Guam | Todiramphus cinnamominus | Western Pacific Ocean, U.S.A. (Guam) | Entire | E | 156 | 17.95(b) | NA
* * * * * * *
Petrel, Hawaiian | Pterodroma sandwichensis | U.S.A. (HI) | Entire | E | 1 | NA | NA
* * * * * * *

3. Amend the List of Endangered and Threatened Plants in § 17.12(h) by:

a. Removing the entries under FLOWERING PLANTS for “Alsinidendron lychnoides,” “Alsinidendron viscosum,” “Chamaesyce celastroides var. kaenana,” “Chamaesyce deppeana,” “Chamaesyce eleanoriae,” “Chamaesyce halemanui,” “Chamaesyce herbstii,” “Chamaesyce kuwaleana,” “Chamaesyce remyi var. kauaiensis,” “Chamaesyce remyi var. remyi,” “Chamaesyce rockii,” “Chamaesyce skottsbergii var. skottsbergii,” and “Cyanea (=Rollandia) crispa”;

b. Adding an entry in alphabetic order under FLOWERING PLANTS for “Cyanea crispa”;

c. Revising the entry under FLOWERING PLANTS for “Cyanea platyphylla”;

d. Adding entries in alphabetic order under FLOWERING PLANTS for “Cyanea rivularis” and “Cyperus fauriei”;

e. Removing the entry under FLOWERING PLANTS for “Delissea rivularis”;

f. Revising the entry under FLOWERING PLANTS for “Dubautia latifolia”;

g. Adding an entry in alphabetic order under FLOWERING PLANTS for “Erigeron decumbens”;

h. Removing the entry under FLOWERING PLANTS for “Erigeron decumbens var. decumbens”;

i. Adding entries in alphabetic order under FLOWERING PLANTS for “Euphorbia celastroides var. kaenana,” “Euphorbia deppeana,” “Euphorbia eleanoriae,” “Euphorbia halemanui,” “Euphorbia herbstii,” “Euphorbia kuwaleana,” “Euphorbia remyi var. kauaiensis,” “Euphorbia remyi var. remyi,” “Euphorbia rockii,” and “Euphorbia skottsbergii var. skottsbergii”;

j. Revising the entries under FLOWERING PLANTS for “Flueggea neowawraea” and “Geranium arboreum”;

k. Removing the entries under FLOWERING PLANTS for “Hedyotis cookiana” and “Hedyotis st-johnii”;

l. Adding entries in alphabetic order under FLOWERING PLANTS for “Kadua cookiana” and “Kadua st-johnii”;

m. Revising the entry under FLOWERING PLANTS for “Korthalsella degeneri”;

n. Removing the entry under FLOWERING PLANTS for “Limnanthes floccosa ssp. grandiflora”;

o. Adding an entry in alphabetic order under FLOWERING PLANTS for “Limnanthes pumila ssp. grandiflora”;

p. Removing the entry under FLOWERING PLANTS for “Lobelia gaudichaudii ssp. koolauensis”;

q. Adding an entry in alphabetic order under FLOWERING PLANTS for “Lobelia koolauensis”;

r. Revising the entries under FLOWERING PLANTS for “Lysimachia daphnoides,” “Lysimachia iniki,” “Lysimachia pendens,” “Lysimachia scopulensis,” and “Lysimachia venosa”;

s. Removing the entries under FLOWERING PLANTS for “Mariscus fauriei” and “Munroidendron racemosum”;

t. Revising the entries under FLOWERING PLANTS for “Myrsine juddii,” “Myrsine knudsenii,” “Myrsine linearifolia,” “Myrsine mezii,” and “Myrsine vaccinioides”;

u. Revising the entry under FLOWERING PLANTS for “Pleomele hawaiiensis”;

v. Adding entries in alphabetic order under FLOWERING PLANTS for “Polyscias bisattenuata,” “Polyscias flynnii,” “Polyscias gymnocarpa,” “Polyscias lydgatei,” and “Polyscias racemosa”;

w. Removing the entry under FLOWERING PLANTS for “Pritchardia affinis”;

x. Adding entries in alphabetic order under FLOWERING PLANTS for “Pritchardia maideniana,” “Schiedea lychnoides,” and “Schiedea viscosa”;

y. Removing the entry under FLOWERING PLANTS for “Sicyos alba”;

z. Adding an entry in alphabetic order under FLOWERING PLANTS for “Sicyos albus”;

aa. Removing the entries under FLOWERING PLANTS for “Tetraplasandra bisattenuata,” “Tetraplasandra flynnii,” “Tetraplasandra gymnocarpa,” and “Tetraplasandra lydgatei”;

bb. Revising the entry under FLOWERING PLANTS for “Xylosma crenatum” and the entry under FERNS AND ALLIES for “Adenophorus periens”;

cc. Adding entries in alphabetic order under FERNS AND ALLIES for “Asplenium dielfalcatum,” “Asplenium dielmannii,” “Asplenium dielpallidum,” and “Asplenium unisorum”;

dd. Removing the entries under FERNS AND ALLIES for “Diellia falcata,” “Diellia mannii,” “Diellia pallida,” and “Diellia unisora”; and

ee. Revising the entry under FERNS AND ALLIES for “Diplazium molokaiense”.

The additions and revisions read as follows:

§ 17.12 Endangered and threatened plants.

* * * * *

(h) * * *

Species: Scientific name | Species: Common name | Historic range | Family | Status | When listed | Critical habitat | Special rules
Flowering Plants
* * * * * * *
Cyanea crispa | Haha | U.S.A. (HI) | Campanulaceae | E | 536 | 17.99(i) | NA
* * * * * * *
Cyanea platyphylla | ‘Aku‘aku | U.S.A. (HI) | Campanulaceae | E | 595 | 17.99(k) | NA
* * * * * * *
Cyanea rivularis | Haha | U.S.A. (HI) | Campanulaceae | E | 590 | 17.99(a)(1) | NA
* * * * * * *
Cyperus fauriei | None | U.S.A. (HI) | Cyperaceae | E | 532 | 17.99(c) and (k) | NA
* * * * * * *
Dubautia latifolia | Koholapehu | U.S.A. (HI) | Asteraceae | E | 464 | 17.99(a)(1) | NA
* * * * * * *
Erigeron decumbens | Willamette daisy | U.S.A. (OR) | Asteraceae | E | 679 | 17.96(a) | NA
* * * * * * *
Euphorbia celastroides var. kaenana | ‘Akoko | U.S.A. (HI) | Euphorbiaceae | E | 448 | 17.99(i) | NA
Euphorbia deppeana | ‘Akoko | U.S.A. (HI) | Euphorbiaceae | E | 536 | 17.99(i) | NA
Euphorbia eleanoriae | ‘Akoko | U.S.A. (HI) | Euphorbiaceae | E | 765 | 17.99(a) | NA
* * * * * * *
Euphorbia halemanui | ‘Akoko | U.S.A. (HI) | Euphorbiaceae | E | 464 | 17.99(a)(1) | NA
Euphorbia herbstii | ‘Akoko | U.S.A. (HI) | Euphorbiaceae | E | 591 | 17.99(i) | NA
Euphorbia kuwaleana | ‘Akoko | U.S.A. (HI) | Euphorbiaceae | E | 448 | 17.99(i) | NA
Euphorbia remyi var. kauaiensis | ‘Akoko | U.S.A. (HI) | Euphorbiaceae | E | 765 | 17.99(a) | NA
Euphorbia remyi var. remyi | ‘Akoko | U.S.A. (HI) | Euphorbiaceae | E | 765 | 17.99(a) | NA
Euphorbia rockii | ‘Akoko | U.S.A. (HI) | Euphorbiaceae | E | 591 | 17.99(i) | NA
Euphorbia skottsbergii var. skottsbergii | ‘Ewa Plains ‘akoko | U.S.A. (HI) | Euphorbiaceae | E | 120 | 17.99(i) | NA
* * * * * * *
Flueggea neowawraea | Mehamehame | U.S.A. (HI) | Phyllanthaceae | E | 559 | 17.99(a)(1), (c), (e)(1), (i) and (k) | NA
* * * * * * *
Geranium arboreum | Nohoanu | U.S.A. (HI) | Geraniaceae | E | 465 | 17.99(e)(1) | NA
* * * * * * *
Kadua cookiana | ‘Awiwi | U.S.A. (HI) | Rubiaceae | E | 530 | 17.99(a)(1) | NA
* * * * * * *
Kadua st.-johnii | None | U.S.A. (HI) | Rubiaceae | E | 441 | 17.99(a)(1) | NA
* * * * * * *
Korthalsella degeneri | Hulumoa | U.S.A. (HI) | Santalaceae | E | 806 | 17.99(i) | NA
* * * * * * *
Limnanthes pumila ssp. Grandiflora | Large-flowered woolly meadowfoam | U.S.A. (OR) | Limnanthaceae | E | 733 | 17.96(a) | NA
* * * * * * *
Lobelia koolauensis | None | U.S.A. (HI) | Campanulaceae | E | 591 | 17.99(i) | NA
* * * * * * *
Lysimachia daphnoides | Lehua makanoe | U.S.A. (HI) | Primulaceae | E | 765 | 17.99(a) | NA
* * * * * * *
Lysimachia iniki | None | U.S.A. (HI) | Primulaceae | E | 765 | 17.99(a) | NA
* * * * * * *
Lysimachia pendens | None | U.S.A. (HI) | Primulaceae | E | 765 | 17.99(a) | NA
Lysimachia scopulensis | None | U.S.A. (HI) | Primulaceae | E | 765 | 17.99(a) | NA
Lysimachia venosa | None | U.S.A. (HI) | Primulaceae | E | 765 | 17.99(a) | NA
* * * * * * *
Myrsine juddii | Kolea | U.S.A. (HI) | Primulaceae | E | 591 | 17.99(i) | NA
Myrsine knudsenii | Kolea | U.S.A. (HI) | Primulaceae | E | 765 | 17.99(a) | NA
Myrsine linearifolia | Kolea | U.S.A. (HI) | Primulaceae | T | 590 | 17.99(a)(1) | NA
Myrsine mezii | Kolea | U.S.A. (HI) | Primulaceae | E | 765 | 17.99(a) | NA
Myrsine vaccinioides | Kolea | U.S.A. (HI) | Primulaceae | E | 815 | NA | NA
* * * * * * *
Pleomele hawaiiensis | Hala pepe | U.S.A. (HI) | Asparagaceae | E | 595 | 17.99(k) | NA
* * * * * * *
Polyscias bisattenuata | None | U.S.A. (HI) | Araliaceae | E | 765 | 17.99(a) | NA
Polyscias flynnii | None | U.S.A. (HI) | Araliaceae | E | 765 | 17.99(a) | NA
Polyscias gymnocarpa | ‘Ohe‘ohe | U.S.A. (HI) | Araliaceae. | E | 536 | 17.99(i) | NA
Polyscias lydgatei | None | U.S.A. (HI) | Araliaceae | E | 806 | 17.99(i) | NA
Polyscias racemosa | None | U.S.A. (HI) | Araliaceae | E | 530 | 17.99(a)(1) | NA
* * * * * * *
Pritchardia maideniana | Lo‘ulu | U.S.A. (HI) | Arecaceae | E | 532 | NA | NA
* * * * * * *
Schiedea lychnoides | Kuawawaenohu | U.S.A. (HI) | Caryophyllaceae | E | 590 | 17.99(a)(1) | NA
* * * * * * *
Schiedea viscosa | None | U.S.A. (HI) | Caryophyllaceae | E | 590 | 17.99(a)(1) | NA
* * * * * * *
Sicyos albus | ‘Anunu | U.S.A. (HI) | Cucurbitaceae | E | 595 | 17.99(k) | NA
* * * * * * *
Xylosma crenatum | None | U.S.A. (HI) | Salicaceae | E | 464 | 17.99(a)(1) | NA
* * * * * * *
Ferns and Allies
Adenophorus periens | Pendent kihi fern | U.S.A. (HI) | Polypodiaceae | E | 559 | 17.99(a)(1), (c), (i), and (k) | NA
* * * * * * *
Asplenium dielfalcatum | None | U.S.A. (HI) | Aspleniaceae | E | 448 | 17.99(i) | NA
Asplenium dielmannii | None | U.S.A. (HI) | Aspleniaceae | E | 765 | 17.99(a) | NA
Asplenium dielpallidum | None | U.S.A. (HI) | Aspleniaceae | E | 530 | 17.99(a)(1) | NA
Asplenium unisorum | None | U.S.A. (HI) | Aspleniaceae | E | 541 | 17.99(i) | NA
* * * * * * *
Diplazium molokaiense | None | U.S.A. (HI) | Woodsiaceae | E | 553 | 17.99(a)(1), (c), (e)(1), and (i) | NA
* * * * * * *

Dated: June 9, 2015.
Stephen Guertin,
Acting Director, U.S. Fish and Wildlife Service.

[FR Doc. 2015-15212 Filed 6-22-15; 8:45 am]

BILLING CODE 4310-55-P